DEPARTMENT OF INTERIOR

Bureau of Land Management

[CO-13000-1220-DB; CO-13000-1020-MJ]

Recreation Visitor Use Restrictions and Range Management Direction for Bangs Canyon Special Recreation Management Area; Colorado

AGENCY: Bureau of Land Management, Department of Interior.

ACTION: Notice of travel management, recreation visitor use restrictions, and range management direction.

SUMMARY: This order, issued under the authority of 43 CFR 8341.1, and 8342.1, 43 CFR 8364.1(d), and 43 CFR 4110.3, and 43 CFR 4110.4-2(b), see also 18 U.S.C. 3571 implements recreation and travel related management actions and range management direction as identified in the Bangs Canyon Management Plan signed in August of 1999 by the Colorado State Director and the Grand Junction Field Office Manager. The identified public lands are in Colorado, Mesa County, under the management jurisdiction of the Bureau of Land Management, Grand Junction Field Office, (T. 12, 13, 14 W., R. 1, 100 & 101 W.). The area is bounded by the Colorado National Monument and the city of Grand Junction on the north, the Lower Gunnison River on the east, the private lands in Glade Park on the west, and highway 141 on the south. The recreation restrictions and travel management direction consist of:

1. Allowing all motorized and mechanized travel only on designated roads and trails (so designated by maps contained in management plan).

2. Prohibiting overnight camping and all open fires within a half mile of Little Park Road, in the entire area between Monument Road and Little Park Road, and in the lower two miles of East Creek.

3. No use will be allowed after dark in the area between Little Park Road and Monument Road.

The range management direction consists of leaving the Dead Horse and Boulder Canyon allotments un-allotted due to recreational considerations and the suitability of the range for grazing purposes.

EFFECTIVE DATES: The recreation and travel management restrictions and range management direction shall be in effect year round beginning February 15, 2000 and shall remain in effect until rescinded or modified by the Authorized Officer.

SUPPLEMENTARY INFORMATION: BLM administers approximately 54,000 acres in the Bangs Canyon planning area. This area has become increasingly popular for hiking, mountain biking, horseback riding and OHV use due to its close proximity to Grand Junction. Public lands in this area contain important fragile resource values along with providing a variety of recreational opportunities. Changes in the current travel, recreation restrictions, and range management direction in the Bangs Canyon area are needed to protect desirable recreational opportunities and benefits as well as protect erosive soils, wildlife habitat, cultural resources, important scenic values, wilderness values and semi-primitive motorized and non-motorized settings. Growing recreational use in the area is expected to continue, and these restrictions are needed to prevent conflicts between users and unacceptable impacts on resource values, while continuing to provide a variety of recreational opportunities.

Notice of these regulations will be posted on-the-ground at the Little Park and Bangs Canyon staging areas, the Ribbon trailhead, at the entrance to East Creek, and at the Grand Junction Field office.

Persons who may be exempted from the restrictions include: (a) Any federal, state, or local officers engaged in fire, emergency and law

Page 2 of 3 enforcement activities; (b) BLM employees engaged in official duties; (c) other persons authorized to operate motorized vehicles within the restricted areas.

PENALTIES: Violations of this restriction order are punishable by fines not to exceed $100,000 and/or imprisonment not to exceed 12 months.

FOR FURTHER INFORMATION CONTACT: Catherine Robertson, Field Manager, Grand Junction Field Office, 2815 H Road Grand Junction, Colorado 81506; (970) 244-3010.

Catherine Robertson,
Grand Junction Field Office Manager.

[FR Doc. 00-3389 Filed 2-15-00; 8:45 am]

BILLING CODE 4310-JB-P